DEPARTMENT OF HEALTH AND HUMAN SERVICES

National Institutes of Health

Center for Scientific Review; Cancellation of Meeting

Notice is hereby given of the cancellation of the Genetic Variation and Evolution Study Section, October 14, 2004, 8 a.m., to October 16, 2004, 4 p.m., The River Inn, 924 25th Street, NW., Washington, DC 20037, which was published in the Federal Register on September 16, 2004, 69 FR 55830-55832.

The meeting is cancelled due to lack of quorum.

Dated: October 17, 2004.
LaVerne Y. Stringfield,
Director, Office of Federal Advisory Committee Policy.

[FR Doc. 04-23349 Filed 10-18-04; 8:45 am]

BILLING CODE 4140-01-M